DEPARTMENT OF ENERGY

Federal Energy Regulatory Commission

[Project No.: 2801-027]

Littleville Power Company, Inc.; Notice Soliciting Scoping Comments

August 22, 2008.

Take notice that the following hydroelectric application has been filed with the Commission and is available for public inspection.

a. Type of Application: Subsequent Minor License.

b. Project No.: P-2801-027.

c. Date filed: October 31, 2007.

d. Applicant: Littleville Power Company, Inc.

e. Name of Project: Glendale Hydroelectric Project.

f. Location: On the Housatonic River in the Town of Stockbridge, Berkshire County. The project does not affect federal lands.

g. Filed Pursuant to: Federal Power Act 16 U.S.C. 791 (a)-825(r).

h. Applicant Contact: Kevin M. Webb, Environmental Affairs Coordinator, Littleville Power Company, Inc., One Tech Drive, Suite 220, Andover, MA 01810, (978) 681-1900 ext. 809, kevin.webb@northamerica.enel.it.

i. FERC Contact: Kristen Murphy, (202) 502-6236 or kristen.murphy@ferc.gov.

j. Deadline for filing scoping comments: September 22, 2008.

All documents (original and eight copies) should be filed with: Kimberly D. Bose, Secretary, Federal Energy Regulatory Commission, 888 First Street, NE., Washington, DC 20426.

k. This application has been accepted, but is not ready for environmental analysis at this time.

l. As licensed, the existing Glendale Project consists of: (1) A 250-foot long, 30-foot high concrete gravity dam with a 182-foot-long spillway; (2) a 23-acre reservoir; (3) two manually operated 10 by 10-foot intake gates; (4) a 1,500-foot long, 40-foot wide intake canal; (5) a forebay structure and a 250-foot long, 12-foot diameter steel penstock; (6) a powerhouse with four turbines with a combined installed capacity of 1,140-kilowatts; (7) a 300-foot long tailrace channel; (8) a step-up transformer and an 83-foot-long 13.8 kilovolt transmission line; and (9) appurtenant facilities. The Housatonic River reach that is bypassed by the project (measured from the gatehouse to the tailrace channel) is about 2,500 feet long.

The proposed project would include a new 165-kW turbine unit in the waste gate slot located at the gatehouse adjacent to the project dam. This unit would operate off of a proposed minimum bypassed reach flow of 90 cubic feet per second (cfs) or inflow. In addition, the proposed project would provide additional recreational access through formal canoe portage facilities and parking.

The applicant estimates that the total average annual generation, with the proposed additional turbine, would be 5,800 megawatt-hours. The applicant proposes to continue to operate the project in run-of-river mode with an increase in minimum flow in the bypass reach from 10 cfs to 90 cfs or inflow, whichever is less. The purpose of the project is to produce electrical power for sale.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov/docs-filing/esubscription.asp to be notified via e-mail of new filings and issuances related to this or other pending projects. For assistance, contact FERC Online Support.

o. Scoping Process

The Commission staff intends to prepare a single environmental assessment (EA) for the Glendale Hydroelectric Project in accordance with the National Environmental Policy Act. The EA will consider both site-specific and cumulative environmental impacts and reasonable alternatives to the proposed action.

Commission staff does not propose to conduct any on-site scoping meetings at this time. Instead, we are soliciting comments, recommendations, and information, on the scoping document issued on August 22, 2008.

Copies of the scoping document outlining the subject areas to be addressed in the EA were distributed to the parties on the Commission's mailing list and the applicant's distribution list. Copies of the scoping document may be viewed on the Web at http://www.ferc.gov using the “eLibrary” link. Enter the docket number excluding the last three digits in the docket number field to access the document. For assistance, call 1-866-208-3676 or for TTY, (202) 502-8659.

Kimberly D. Bose,
Secretary.

[FR Doc. E8-20047 Filed 8-28-08; 8:45 am]

BILLING CODE 6717-01-P